DEPARTMENT OF THE INTERIOR

Bureau of Land Management

[NV-060-1990]

Notice of Intent To Prepare an Environmental Impact Statement To Analyze the Proposed Amendment to the Pipeline/South Pipeline Plan of Operations (NVN-067575) for the Cortez Hills Expansion Project

AGENCY: Bureau of Land Management, Department of Interior.

Cooperating Agency Nevada Department of Wildlife. Consultation is ongoing with the Environmental Protection Agency on Cooperating Agency status.

ACTION: Notice of Intent to Prepare an Environmental Impact Statement to analyze the Proposed Amendment to the Pipeline/South Pipeline Plan of Operations (NVN-067575) for the Cortez Hills Expansion Project, Lander and Eureka Counties, Nevada, and notice of scoping period.

SUMMARY: Pursuant to Section 102(2)(c) of the National Environmental Policy Act of 1969 (NEPA), 40 Code of Federal Regulations 1500-1508 Council on Environmental Quality Regulations, and 43 Code of Federal Regulations 3809, the Bureau of Land Management's (BLM's) Battle Mountain Field Office will be directing the preparation of an Environmental Impact Statement (EIS) to analyze proposed pit and process facility expansions and development of a new open-pit gold mine and associated facilities, in Lander and Eureka counties, Nevada. The EIS will be prepared by a third-party contractor directed by the BLM and funded by the proponent, Cortez Gold Mines. The project will involve public and private lands in Lander and Eureka counties, Nevada. The BLM invites comments and suggestions on the scope of the analysis.

DATES: This notice initiates the public scoping process. Comments on the scope of the EIS can be submitted in writing to the address below and must be post-marked or otherwise delivered by 4:30 p.m. on January 3, 2006. Scoping meetings will be held in Crescent Valley and in Battle Mountain, Nevada. All scoping meetings will be announced through the local news media, newsletters or flyers, at least 15 days prior to each event. The minutes and list of attendees for each meeting will be available to the public and open for 30 days after the meeting to any participants who wish to clarify the views they expressed.

The purpose of the public scoping meetings is to identify issues to be addressed in the EIS, and to identify potentially viable alternatives that address these issues. BLM personnel will be present to explain the NEPA process, mining regulations, and other requirements for processing the proposed Plan of Operations Amendment and the associated EIS. Representatives of Cortez Gold Mines will also be available to describe their proposal. area:

ADDRESSES: Written scoping comments should be sent to the Bureau of Land Management, Battle Mountain Field Office, 50 Bastian Road, Battle Mountain, Nevada 89820, ATTN: Chris Worthington. Written comments may also be faxed to Chris Worthington at (775) 635-4034. Documents pertinent to this proposal as well as comments, including names and street addresses of respondents, may be examined at the Battle Mountain Field Office during regular business hours (7:30 a.m.-4:30 p.m. Monday through Friday, except holidays). Comments may be published as part of the EIS.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Chris Worthington, Planning and Environmental Coordinator, Battle Mountain Field Office, 50 Bastian Road, Battle Mountain, Nevada 89820 (775) 635-4144.

SUPPLEMENTARY INFORMATION: Cortez Gold Mines (CGM), on behalf of the Cortez Joint Venture, proposes to expand its Pipeline/South Pipeline Project, an existing open-pit gold mining and processing operation. The Pipeline/South Pipeline Project is located in north-central Nevada approximately 31 miles south of Beowawe in Lander County.

The proposed Cortez Hills Expansion Project (Project) is located within Township 27 North (T27N), Range 47 East (R47E); T27N, R46E; T26N, R47E; T26N, R48E; T28N, R46E; and T28N, R47E in Lander and Eureka counties. The currently authorized disturbance area associated with the Pipeline/South Pipeline Project is 9,103 acres. Approximately 6,139 additional acres of disturbance would occur as a result of the proposed mine expansion, most of which would occur on federal land administered by the Bureau of Land Management Battle Mountain Field Office.

The project would involve the construction and development of the following primary components in the Cortez Hills and Cortez Mine area: New open pit for development of the Cortez Hills and Pediment ore zones with an in-pit groundwater dewatering system; expansion of existing Cortez Mine open pits; two new heap leach facilities with associated solution ponds and two carbon-in-column facilities; new ore, subgrade ore, and growth media stockpiles; two new waste rock disposal facilities; expansion of the existing waste rock disposal facility at the Cortez Mine; new ancillary facilities (maintenance shop, administrative facilities, and fuel and lubricant storage facilities); new primary crusher, stock pile area, and 12-mile conveyor system; expansion of the existing tailings facility at the Cortez Mill; new water supply well(s) and associated power line and pipeline; potential new cross-valley water pipelines; Horse Canyon haul road modifications; relocation of existing county road and relocation of existing 69-kV transmission line segments in the project area; installation of a new 120-kV transmission line and substation; new borrow area; and construction of a new land fill and reactivation of the existing landfill near the Cortez Mill.

The project also would involve the construction or modification of the following primary components in the Pipeline/South Pipeline and Gold Acres areas:

Expansion of the existing Pipeline waste rock disposal facility, relocation of the existing county road around the waste rock disposal facility expansion area, expansion of the existing Pipeline/South Pipeline open pit, and an increase in the Pipeline Mill processing capacity from the currently permitted 13,500 tons per day (tpd) to an average of 15,000 tpd.

CGM proposes to mine the ore body in the Cortez Hills Expansion area concurrently with their existing Pipeline/South Pipeline ore bodies. Although a portion of the ore from the Cortez Hills Expansion area may be processed at the existing Cortez and/or Pipeline mills, the primary method of processing would be heap leaching at the Cortez Hills site. Construction and operation of the Cortez Hills Expansion Project is anticipated to be initiated in 2007. The life of the mine would include approximately 10 years of active mining and an additional 3 years for on-going ore processing. Concurrent reclamation would be conducted during this period as areas become available. Site closure and final reclamation would continue for a few additional years.

Potential significant direct, indirect, residual, and cumulative impacts from the proposed action will be analyzed in the EIS. Significant issues to be addressed in the EIS include dewatering activities, cultural and native American issues, and visual impacts. Additional issues to be addressed may arise during the scoping process. Federal, state, and local agencies, and other individuals or organizations that may be interested in or affected by the BLM's decision on this Plan of Operations amendment are invited to participate in the scoping process.

Dated: October 26, 2005.
Gerald M. Smith,
Field Manager, Battle Mountain Field Office.

[FR Doc. E5-6768 Filed 12-1-05; 8:45 am]

BILLING CODE 4310-HC-P